ENVIRONMENTAL PROTECTION AGENCY

[EPA-R09-UST-2010-0538; FRL-9276-2]

Agency Information Collection Activities; Submission to OMB for Review and Approval; Comment Request; Underground Storage Tank: Information Request Letters, Pacific Southwest Region (Region IX) (New)

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request for a new collection. The ICR, which is abstracted below, describes the nature of the information collection and its estimated burden and cost.

DATES: Additional comments may be submitted on or before April 6, 2011.

ADDRESSES: Submit your comments, referencing Docket ID No. EPA-R09-UST-2010-0538, to (1) EPA online using http://www.regulations.gov (our preferred method), by e-mail to thomas.ladonna@epa.gov, or by mail to: LaDonna Thomas, Environmental Protection Agency, Mailcode: WST-8, 75 Hawthorne Street, San Francisco, CA 94105-3901, and (2) OMB by mail to: Office of Information and Regulatory Affairs, Office of Management and Budget (OMB), Attention: Desk Officer for EPA, 725 17th Street, NW., Washington, DC 20503.

FOR FURTHER INFORMATION CONTACT: LaDonna Thomas, Waste Management Division, WST-8, Environmental Protection Agency, 75 Hawthorne Street, San Francisco, CA 94105-3901; telephone number: (415) 972-3375; fax number: (415) 947-3530; e-mail address: thomas.ladonna@epa.gov.

SUPPLEMENTARY INFORMATION: EPA has submitted the following ICR to OMB for review and approval according to the procedures prescribed in 5 CFR 1320.12. On September 24, 2010 (75 FR 58374), EPA sought comments on this ICR pursuant to 5 CFR 1320.8(d). EPA received no comments. Any additional comments on this ICR should be submitted to EPA and OMB within 30 days of this notice.

EPA has established a public docket for this ICR under Docket ID No. EPA-R09-UST-2010-0538, which is available for online viewing at http://www.regulations.gov, or in person viewing at the Docket Facility located at the Environmental Protection Agency, Region IX, 75 Hawthorne Street, San Francisco, CA. A complete public portion of the administrative record is available for review at the Docket Facility upon request. The Docket Facility is open from 9 a.m. to 4 p.m., Monday through Thursday, excluding legal holidays, and is located in a secured building. To review docket materials at the Docket facility, it is recommended that the public make an appointment by calling the Docket Facility at (415) 947-4406 during normal business hours.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Underground Storage Tank: Information Request Letters, Pacific Southwest Region (Region IX) (New).

ICR numbers: EPA ICR No. 2405.01, OMB Control No. 2009-NEW.

ICR Status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: EPA has already received approval from OMB for its information collection request, entitled “EPA Information Collection Request Number 1360.08, Underground Storage Tanks: Technical and Financial Requirements, and State Program Approval Procedures.” This approval grants EPA authority to collect information from owners and operators, as specified in 40 CFR part 280, that may otherwise be subject to the Paperwork Reduction Act, including owner and operator requirements to bring a tank into service, pursuant to 40 CFR 280.22, and owner and operator requirements to notify the implementing agency of any decision to permanently close or make a change-in-service at an UST system, pursuant to 40 CFR 280.71. Although OMB has approved this information collection request, EPA, Region 9, is seeking additional approval from OMB to revise and expand the scope of the original information collection request beyond what EPA originally envisioned when it initially sought the ICR.

EPA Region 9's Underground Storage Tanks Program Office (R9 USTPO) is planning to undertake an effort to increase the rate of compliance in Region 9. R9 USTPO has direct implementation responsibilities in Indian country and our data has shown a low rate of compliance. While Indian country is our highest priority because of our direct implementation responsibility, we have also reviewed data that suggest facilities outside Indian country are also of concern. In FY 08, the rate of compliance in Region 9 Indian country was 36% and outside of Indian country the average was 68%. An information request pursuant to RCRA section 9005 directed to UST facility owners and operators in order to determine compliance will help to increase the rate of compliance.

As a result, R9 USTPO would like to send an information request letter in accordance with RCRA Section 9005 and 40 CFR 280.34 annually to approximately 500 UST facilities. This letter will request that the facility owner or operator send to the R9 USTPO the compliance records that they are already required to keep, but have not previously been asked to submit to the Agency. The information request letter authority was codified in 40 CFR 280.34 of the UST regulations and this regulation and other provisions of the UST regulations also contain specific ongoing facility reporting and record keeping obligations. In accordance with 40 CFR 280.34(c), these records should be kept either on-site or must be readily available at an alternative site and, thus, should be easy to locate. The information is routinely reviewed during inspections, but we believe there is suspected non-compliance that warrants additional collection and believe that these requests will encourage owners and operators to maintain regulatory compliance and will allow the R9 USTPO to better ensure compliance with regulatory requirements for those facilities. The R9 USTPO seeks to continue this request for records from facilities indefinitely and would monitor whether our efforts to increase compliance are successful.

Burden Statement: The annual public reporting and recordkeeping burden for this collection of information is estimated to average 2 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Underground storage tank owners and operators within EPA Region 9 (Arizona, California, Hawaii, Nevada, Pacific Islands, 147 Tribes).

Estimated Number of Respondents: 500.

Frequency of Response: Annual.

Estimated Total Annual Hour Burden: 1,000.

Estimated Total Annual Cost: $29,025, includes $4,025 annualized capital or O&M costs.

Changes in the Estimates: This is a new collection.

Dated: March 1, 2011.
John Moses,
Director, Collection Strategies Division.

[FR Doc. 2011-5049 Filed 3-4-11; 8:45 am]

BILLING CODE 6560-50-P